DEPARTMENT OF COMMERCE

National Oceanic and Atmospheric Administration

[RTID 0648-XE145]

Marine Mammals; File No. 28171

AGENCY: National Marine Fisheries Service (NMFS), National Oceanic and Atmospheric Administration (NOAA), Commerce.

ACTION: Notice; receipt of application.

SUMMARY: Notice is hereby given that Rachel Cartwright, Ph.D., Keiki Kohola Project, 1330 Sabal Lakes Road, Delray Beach, FL 33445, has applied in due form for a permit to conduct research on humpback whales (Megaptera novaeangliae; Hawaii distinct population segment [DPS]), bottlenose dolphins (Tursiops truncatus), spinner dolphins (Stenella longirostris), pantropical spotted dolphins (Stenella attenuata), false killer whales (Pseudorca crassidens; Hawaiian insular DPS), and short-finned pilot whales (Globicephala macrorhynchus).

DATES: Written comments must be received on or before September 3, 2024.

ADDRESSES: The application and related documents are available for review by selecting “Records Open for Public Comment” from the “Features” box on the Applications and Permits for Protected Species home page, https://apps.nmfs.noaa.gov, and then selecting File No. 28171 from the list of available applications. These documents are also available upon written request via email to NMFS.Pr1Comments@noaa.gov.

Written comments on this application should be submitted via email to NMFS.Pr1Comments@noaa.gov. Please include “File No. 28171” in the subject line of the email comment.

Those individuals requesting a public hearing should submit a written request via email to NMFS.Pr1Comments@noaa.gov. The request should set forth the specific reasons why a hearing on this application would be appropriate.

FOR FURTHER INFORMATION CONTACT: Erin Markin, Ph.D., or Carrie Hubard, (301) 427-8401.

SUPPLEMENTARY INFORMATION: The subject permit is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR parts 222-226).

The applicant proposes to continue long-term monitoring of the health, behavior, and habitat use of humpback whales in Hawaiian waters. Research may be conducted from a vessel or unmanned aircraft system for counts, observations, and photograph and video recordings (above and underwater) on up to 1,017 humpback whales annually. Opportunistic research may occur on 12 bottlenose, 120 spinner, and 60 pantropical spotted dolphins, 24 false killer, and 24 short-finned pilot whales, annually. The requested duration of the permit is 5 years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: July 25, 2024.
Julia M. Harrison,
Chief, Permits and Conservation Division, Office of Protected Resources, National Marine Fisheries Service.

[FR Doc. 2024-17115 Filed 8-1-24; 8:45 am]

BILLING CODE 3510-22-P